NUCLEAR REGULATORY COMMISSION

[Docket No. NRC-2013-0108]

Agency Information Collection Activities: Submission for the Office of Management and Budget (OMB) Review; Comment Request

AGENCY: Nuclear Regulatory Commission.

ACTION: Notice of the Office of Budget and Management (OMB) review of information collection and solicitation of public comment.

SUMMARY: The U.S. Nuclear Regulatory Commission (NRC) has recently submitted to OMB for review the following proposal for the collection of information under the provisions of the Paperwork Reduction Act of 1995 (44 U.S.C. Chapter 35). The NRC hereby informs potential respondents that an agency may not conduct or sponsor, and that a person is not required to respond to, a collection of information unless it displays a currently valid OMB control number. The NRC published a Federal Register notice with a 60-day comment period on this information collection on June 6, 2013 (78 FR 34134).

1. Type of submission, new, revision, or extension: Extension.

2. The title of the information collection: The Office of Federal and State Materials and Environmental Management Programs Requests to Agreement States for Information.

3. Current OMB approval number: 3150-0029.

4. The form number if applicable: N/A.

5. How often the collection is required: One time or as needed.

6. Who will be required or asked to report: Thirty-Seven Agreement States who have signed Section 274(b) Agreements with the NRC.

7. An estimate of the number of annual responses: 738.

8. The estimated number of annual respondents: 37.

9. An estimate of the total number of hours needed annually to complete the requirement or request: 3,690.

10. Abstract: The Agreement States are asked on a one-time or as-needed basis to respond to a specific incident, to gather information on licensing and inspection practices or other technical and training-related information. In 2007, the NRC policy changed to begin funding training for Agreement State materials licensing and inspection staff and associated travel to attend courses offered through the NRC training program. The results of such information requests, which are authorized under Section 274(b) of the Atomic Energy Act, are utilized in part by the NRC in preparing responses to Congressional inquiries.

The Agreement State comments are also solicited in the areas of proposed procedures, implementing guidance, and in the development of new and revised regulations and policies.

The public may examine and have copied for a fee publicly-available documents, including the final supporting statement, at the NRC's Public Document Room, Room O-1F21, One White Flint North, 11555 Rockville Pike, Rockville, Maryland 20874. The OMB clearance requests are available at the NRC's Web site: http://www.nrc.gov/public-involve/doc-comment/omb/. The document will be available on the NRC's home page site for 60 days after the signature date of this notice.

Comments and questions should be directed to the OMB reviewer listed below by October 30, 2013. Comments received after this date will be considered if it is practical to do so, but assurance of consideration cannot be given to comments received after this date.

Chad Whiteman, Desk Officer, Office of Information and Regulatory Affairs (3150-0029), NEOB-10202, Office of Management and Budget, Washington, DC 20503.

Comments can also be emailed to Chad_S_Whiteman@omb.eop.gov or submitted by telephone at 202-395-4718.

The NRC Clearance Officer is Tremaine Donnell, telephone: 301-415-6258.

Dated at Rockville, Maryland, this 24th day of September, 2013.
For the Nuclear Regulatory Commission.
Tremaine Donnell,
NRC Clearance Officer, Office of Information Services.

[FR Doc. 2013-23661 Filed 9-27-13; 8:45 am]

BILLING CODE 7590-01-P